DEPARTMENT OF LABOR

Employment and Training Administration

[TA-W-37,451; TA-W-37,451A]

Cross Creek Apparel, Inc., Mt. Airy, and Walnut Cove, North Carolina; Amended Certification Regarding Eligibility To Apply for Worker Adjustment Assistance

In accordance with Section 223 of the Trade Act of 1974 (19 U.S.C. 2273) the Department of Labor issued a Notice of Certification Regarding Eligibility to Apply for Worker Adjustment Assistance on April 4, 2000, applicable to workers of Cross Creek Apparel, Inc., Mt. Airy and Walnut Cove, North Carolina. The notice will be published soon in the Federal Register.

At the request of the State agency, the Department reviewed the certification for workers of the subject firm. The workers produce knit apparel. New information shows that the Department inadvertently included the workers of the Mt Airy, North Carolina location of Cross Creek Apparel in its certification. Findings show that a previous certification, TA-W-35,750, was issued on March 17, 1999, covering the same worker group, who were engaged in employment related to the production of knit apparel. That certification expires March 17, 2001.

Based on these findings, the Department is amending the certification to limit coverage to only workers of Cross Creek Apparel, Walnut Cove, North Carolina.

The intent of the Department”s certification is in include all workers of Cross Creek Apparel, Inc., Walnut Cove, North Carolina adversely affected by increased imports.

The amended notice applicable to TA-W-37,451 is hereby issued as follows:

“All workers of Cross Creek Apparel, Walnut Cove, North Carolina who became totally or partially separted from employment on or after February 21, 1999 through April 4, 2002 are eligible to apply for adjustment assistance under Section 223 of the Trade Act of 1974.”

Signed at Washington, D.C. this 20th day of April, 2000.

[FR Doc. 00-11112 Filed 5-3-00; 8:45 am]

BILLING CODE 4510-30-M